DEPARTMENT OF DEFENSE

Office of the Secretary

[Transmittal Nos. 12-30]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-30 with attached transmittal and policy justification, and Sensitivity of Technology.

Dated: July 30, 2012.
Aaron Siegel,
Alternate OSD Federal Register Liaison Officer, Department of Defense.

BILLING CODE 5001-06-P

BILLING CODE 5001-06-C

Transmittal No. 12-30

Notice Of Proposed Issuance of Letter of Offer Pursuant to Section 36(b)(l) of the Arms Export Control Act, as amended

(i) Prospective Purchaser: Iraq

(ii) Total Estimated Value:

Major Defense Equipment * | $ 199 million
Other | $ 229 million
Total | $ 428 million
* as defined in Section 47(6) of the Arms Export Control Act.

(iii) Description and Quantity or Quantities of Articles or Services under Consideration for Purchase: 6 AN/TPQ-36(V)11 FIREFINDER Radar Systems, 6 AN/TPQ-37(V)9 FIREFINDER Radars, 3 Meteorological Measuring Sets, 86 AN/VRC-92 export variant Single Channel Ground and Airborne Radio Systems, 12 Advanced Field Artillery Tactical Data Systems, 3 Improved Position and Azimuth Determining Systems, 63 M1152A1 and 3 M1151A1 High Mobility Multipurpose Wheeled Vehicles, 12 M1083A1 Family of Medium Tactical Utility Vehicles, government furnished equipment, common hardware and software, communication support equipment, tools and test equipment, spare and repair parts, support equipment, publications and technical data, personnel training and training equipment, U.S. Government and contractor engineering, logistics, and technical support services, and other related elements of logistics support.

(iv) Military Department: Army (UFN)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 20 July 2012

* as defined in Section 47(6) of the Arms Export Control Act.

Policy Justification

Iraq—AN/TPQ-36(V)11 FIREFINDER Radars

The Government of Iraq has requested a possible sale of 6 AN/TPQ-36(V)11 FIREFINDER Radar Systems, 6 AN/TPQ-37(V)9 FIREFINDER Radars, 3 Meteorological Measuring Sets, 86 AN/VRC-92 export variant Single Channel Ground and Airborne Radio Systems, 12 Advanced Field Artillery Tactical Data Systems, 3 Improved Position and Azimuth Determining Systems, 63 M1152A1 and 3 M1151A1 High Mobility Multipurpose Wheeled Vehicles, 12 M1083A1 Family of Medium Tactical Utility Vehicles, government furnished equipment, common hardware and software, communication support equipment, tools and test equipment, spare and repair parts, support equipment, publications and technical data, personnel training and training equipment, U.S. Government and contractor engineering, logistics, and technical support services, and other related elements of logistics support. The estimated cost is $428 million.

This proposed sale will contribute to the foreign policy and national security of the United States by helping to improve the security of a friendly country. This proposed sale directly supports the Iraq government and serves the interests of the Iraqi people and the United States.

The purchase of these target acquisition radars will enhance the Iraqi Army's foundational defense capability. The radars will significantly reduce the vulnerability of Iraqi forces to indirect fire attacks and provide them with the information to respond to such attacks.

The proposed sale of this equipment and support will not alter the basic military balance in the region.

The prime contractors will be Thales Raytheon Systems in Fullerton, California; Smith-Detection Technologies in Edgewood, Maryland, ITT Corporation in Fort Wayne, Indiana; Raytheon Company in Fort Wayne, Indiana; and L-3 Communications in Budd Lake, New Jersey. There are no known offset agreements proposed in connection with this potential sale.

Implementation of this proposed sale will require U.S. Government or contractor representatives to travel to Iraq for a period of six weeks for equipment de-processing/fielding, system checkout, new equipment training, and logistics support.

There will be no adverse impact on U.S. defense readiness as a result of this proposed sale.

Transmittal No. 12-30

Notice of Proposed Issuance of Letter of Offer Pursuant to Section 36(b)(1) of the Arms Export Control Act

Annex

Item No. vii

(vii) Sensitivity of Technology:

1. The AN/TPQ-36(V)11 and AN/TPQ-37(V)9 FIREFINDER Radars are Counter-Battery Artillery radar sets. The AN/TPQ-36(V)11 and AN/TPQ-37(V)9 Radars have no classified equipment or material included in this sale.

2. The AN/TPQ-36(V)11 FIREFINDER Radar is a medium-range battlefield surveillance radar that accurately, rapidly and automatically locates a variety of enemy indirect fire weapon systems. It can handle simultaneous fire from weapons at multiple locations, detecting and reporting their positions on the first round. The AN/TPQ-36(V)11 system is compact, mobile, reliable and maintainable.

3. The AN/TPQ-37(V)9 FIREFINDER Radar is a long-range battlefield surveillance radar that accurately, rapidly and automatically locates a variety of enemy indirect fire weapon systems. It can handle simultaneous fire from weapons at multiple locations, detecting and reporting their positions on the first round. The AN/TPQ-37(V)9 FIREFINDER Radar system is mobile, reliable and maintainable. It tracks, corrects and improves the fire of friendly weapons with registration and adjustment data.

4. If a technologically advanced adversary were to obtain knowledge of the specific hardware and software elements, the information could be used to develop countermeasures which might reduce weapon system effectiveness or be used in the development of a system with similar or advanced capabilities.

[FR Doc. 2012-18966 Filed 8-2-12; 8:45 am]

BILLING CODE 5001-06-P